DEPARTMENT OF STATE

[Public Notice: 10607]

E.O. 13224 Designation of Jawad Nasrallah, aka, Mohammad Jawad Nasrallah, aka Juad Nasrallah, as a Specially Designated Global Terrorist

Acting under the authority of and in accordance with section 1(b) of Executive Order 13224 of September 23, 2001, as amended by Executive Order 13268 of July 2, 2002, and Executive Order 13284 of January 23, 2003, I hereby determine that the person known as Jawad Nasrallah, also known as Mohammad Jawad Nasrallah, also known also Juad Nasrallah, committed, or poses a significant risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This determination shall be published in the Federal Register.

Dated: August 27, 2018.
Michael R. Pompeo,
Secretary of State.

[FR Doc. 2018-24843 Filed 11-13-18; 8:45 am]

BILLING CODE 4710-AD-P